DEPARTMENT OF DEFENSE

Office of the Secretary

Meeting of the Uniform Formulary Beneficiary Advisory Panel

AGENCY: Department of Defense, Assistant Secretary of Defense (Health Affairs).

ACTION: Notice of meeting.

SUMMARY: Under the provisions of the Federal Advisory Committee Act of 1972 (5 U.S.C., Appendix, as amended) and the Sunshine in the Government Act of 1976 (U.S.C. 552b, as amended) the Department of Defense announces the following Federal Advisory Committee Meeting of the Uniform Formulary Beneficiary Advisory Panel (hereafter referred to as the Panel).

DATES: March 26, 2009 from 8 a.m. to 4 p.m.

ADDRESSES: Naval Heritage Center Theater, 701 Pennsylvania Avenue, NW., Washington, DC 20004.

FOR FURTHER INFORMATION CONTACT: LtCol Thomas Bacon, Designated Federal Officer, Uniform Formulary Beneficiary Advisory Panel, Skyline 5, Suite 810, 5111 Leesburg Pike, Falls Church, VA 22041-3206; Telephone: (703) 681-2890; Fax: (703) 681-1940; E-mail Address: baprequests@tma.osd.mil.

SUPPLEMENTARY INFORMATION: Purpose of Meeting: The Panel will review and comment on recommendations made to the Director, TRICARE Management Activity, by the Pharmacy and Therapeutics (P&T) Committee regarding the Uniform Formulary.

Meeting Agenda: Sign-In; Welcome and Opening Remarks; Public Citizen Comments; Scheduled Therapeutic Class Reviews—Long-acting beta agonists (LABAs); Inhaled corticosteroids (ICS), Combination long-acting beta agonists/inhaled steroids (LABA/ICS Combos) and Designated newly approved drugs; Panel Discussions and Vote, and comments following each therapeutic class review.

Meeting Accessibility: Pursuant to 5 U.S.C. 552b, as amended, and 41 CFR 102-3.140 through 102-3.165, and the availability of space this meeting is open to the public. Seating is limited and will be provided only to the first 220 people signing in. All persons must sign in legibly.

Administrative Work Meeting: Prior to the public meeting the Panel will conduct an Administrative Work Meeting from 7 a.m. to 7:50 a.m. to discuss administrative matters of the Panel. The Administrative Work Meeting will be held at the Naval Heritage Center Conference Room, 701 Pennsylvania Avenue, NW., Washington DC 20004. Pursuant to 41 CFR 102-3.160, the Administrative Work Meeting will be closed to the public.

Written Statements: Pursuant to 41 CFR 102-3.105(j) and 102-3.140, the public or interested organizations may submit written statements to the membership of the Panel at any time or in response to the stated agenda of a planned meeting. Written statements should be submitted to the Panel's Designated Federal Officer; the Designated Federal Officer's contact information can be obtained from the GSA's FACA Database— https://www.fido.gov/facadatabase/public.asp.

Written statements that do not pertain to the scheduled meeting of the Panel may be submitted at any time. However, if individual comments pertain to a specific topic being discussed at a planned meeting then these statements must be submitted no later than five (5) business days prior to the meeting in question. The Designated Federal Officer will review all submitted written statements and provide copies to all the committee members.

Public Comments: In addition to written statements, the Panel will set aside one (1) hour for individual or interested groups to address the Panel. To ensure consideration of their comments, individuals and interested groups should submit written statements as outlined in this notice, but if they still want to address the Panel then they will be afforded the opportunity to register to address the Panel. The Panel's Designated Federal Officer will have a “Sign Up Roster” available at the Panel meeting, for registration on a first-come, first-serve basis. Those wishing to address the Panel will be given no more than five (5) minutes to present their comments, and at the end of the one (1) hour time period no further public comments will be accepted. Anyone who signs up to address the Panel but is unable to do so due to the time limitation may submit their comments in writing; however, they must understand that their written comments may not be reviewed prior to the Panel's deliberation. Accordingly, the Panel recommends that individuals and interested groups consider submitting written statements instead of addressing the Panel.

February 24, 2009.
Patricia L. Toppings,
OSD Federal Register Liaison Officer, Department of Defense.

[FR Doc. E9-4329 Filed 2-27-09; 8:45 am]

BILLING CODE 5001-06-P